ENVIRONMENTAL PROTECTION AGENCY

[FRL-6971-3]

Gulf of Mexico Program Comprehensive Meeting of the Focus Teams

AGENCY: Environmental Protection Agency (EPA).

ACTION: Notice of meeting.

SUMMARY: Under the Federal Advisory Act, Public Law 92463, EPA gives notice of a Comprehensive Meeting of the Gulf of Mexico Program (GMP) Focus Teams (Public Health, Nutrient Enrichment, Habitat, and Nonindigenous Species).

DATES: The Comprehensive Meeting will be held on Wednesday, May 30, 2001, from 8 a.m. to 5 p.m., and on Thursday, May 31, 2001, from 9 a.m. to 3 p.m.

ADDRESSES: The meetings will be held at the Embassy Suites Hotel, 315 Julia Street, New Orleans, LA, (504) 525-1993.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda is attached. The meeting is open to the public.

Dated: April 18, 2001.
Gloria D. Car,
Designated Federal Officer.

Gulf of Mexico Program 2001 Comprehensive Meeting Agenda

Wednesday, May 30

8:00 a.m.—Meeting Opens.

5:00 p.m.—GMP Focus Teams (Public Health, Nutrient Enrichment, Habitat, and Nonindigenous Species) Convene in Separate Sessions to Initiate Development of FY2003 Performance Goal Recommendations and Supporting Strategies.

Thursday, May 31

9:00 a.m.—General Plenary Session (All Teams).

11:30 a.m.—

• Overview of FY2001 Workplan Process and Accomplishments.

• Briefing on FY2002 Workplan Schedule.

• Group Discussion / Q & A.

• Guest Speaker on Partnerships and Stakeholders.

11:30-1:00 p.m.—Lunch

1:00-3:00 p.m.—Focus Teams Re-convene in Plenary Session with Data and Information Transfer Committee, Monitoring, Modeling and Research Committee, and Gulf Mapping and Assessment Center.

3:00 p.m.—Meeting Adjourns.

[FR Doc. 01-10517 Filed 4-26-01; 8:45 am]

BILLING CODE 6560-50-P